GENERAL SERVICES ADMINISTRATION

[FMR Bulletin 2003-B1]

Federal Management Regulation; Locating Federal Facilities in Rural Areas

AGENCY: Office of Governmentwide Policy (MPR), GSA.

ACTION: Notice of a bulletin.

SUMMARY: The attached bulletin is intended to assist Federal agencies, having their own statutory authority to acquire real property, in complying with the Rural Development Act of 1972.

EFFECTIVE DATE: This bulletin is effective January 21, 2003.

FOR FURTHER INFORMATION CONTACT: Stanley C. Langfeld, General Services Administration, Office of Governmentwide Policy (MPR), Washington, DC 20405; e-mail, stanley.langfeld@gsa.gov, telephone (202) 501-1737.

SUPPLEMENTARY INFORMATION: In July 2001, GAO issued GAO Final Report GAO-01-805, entitled “Facilities Location: Agencies Should Pay More Attention to Costs and Rural Development Act,” which examined the Federal laws and policies governing facility location and the extent that agencies were implementing these laws and policies. In addition, the GAO report identified recommendations to be implemented by GSA. In October 2001, in response to a recommendation contained in the GAO Report, GSA agreed to issue a Federal Register bulletin that defines the term “rural area” and recommends that Federal agencies, having their own statutory authority to acquire real property, include a written statement in their files affirming that they have given first priority to locating in a rural area.

Dated: January 13, 2003.
G. Martin Wagner,
Associate Administrator, Office of Governmentwide Policy.

GENERAL SERVICES ADMINISTRATION

[FMR Bulletin 2003-B1]

Real Property

TO: Heads of Federal Agencies

SUBJECT: Locating Federal Facilities in Rural Areas

1. What is the purpose of this bulletin? This bulletin is intended to assist Federal agencies, having their own statutory authority to acquire real property, in complying with the Rural Development Act of 1972.

2. What is the effective date of this bulletin? This bulletin is effective January 21, 2003.

3. When does this bulletin expire? This bulletin will remain in effect indefinitely until specifically cancelled.

4. What is the background?

a. In 1972, the Rural Development Act was enacted which directed Federal agencies to develop policies and procedures to give first priority to the location of new offices and other Federal facilities in rural areas. The intent of the Act is to revitalize and develop rural areas and help foster a balance between rural and urban America.

b. In 1996, Pub. L. 104-127 eliminated the “private business enterprise” language in 7 U.S.C. 1926(a)(7) which had served to define the term “rural area” for the purpose of locating Federal facilities.

c. In July 2001, GAO issued GAO Final Report GAO-01-805, entitled “Facilities Location: Agencies Should Pay More Attention to Costs and Rural Development Act,” which examined the federal laws and policies governing facility location and the extent that agencies were implementing these laws and policies. In addition, the GAO report identified recommendations to be implemented by GSA.

d. In October 2001, in response to a recommendation contained in the GAO Report, GSA agreed to issue a Federal Register bulletin that defines the term “rural area” and recommends that Federal agencies, having their own statutory authority to acquire real property, include a written statement in their files affirming that they have given first priority to locating in a rural area.

5. What “rural area” definition does GSA recommend for Federal agencies having their own statutory authority to acquire real property?

GSA recommends that Federal agencies, having their own statutory authority to acquire real property, use the following “rural area” definition:

“Rural area means a city, town, or unincorporated area that has a population of 50,000 inhabitants or less, other than an urbanized area immediately adjacent to a city, town, or unincorporated area that has a population in excess of 50,000 inhabitants, as specified in 7 U.S.C. 2009.”

6. How does GSA recommend that Federal agencies, having their own real property authority, demonstrate compliance with the Rural Development Act?

GSA recommends that Federal agencies, having their own statutory authority to acquire real property, demonstrate compliance with the Rural Development Act by including a written statement in their files affirming that they have given first priority to the location of new offices and other Federal facilities in rural areas.

7. Who should we contact for further information regarding locating Federal facilities in rural areas?

General Services Administration, Office of Governmentwide Policy, Real Property Policy Division, Attn: Stanley C. Langfeld, 1800 F Street, NW., Washington, DC 20405, Telephone Number: (202) 501-1737, E-mail Address: stanley.langfeld@gsa.gov.

[FR Doc. 03-1183 Filed 1-17-03; 8:45 am]

BILLING CODE 6820-23-P